DEPARTMENT OF ENERGY

Electric Transmission Congestion Study

AGENCY: Office of Electricity Delivery and Energy Reliability, Department of Energy (DOE).

ACTION: Notice of date and time Changes for technical workshops.

SUMMARY: On June 4, 2008, DOE published a notice that DOE was initiating preparations for the 2009 National Electric Transmission Congestion Study pursuant to section 216(a)(1) of the Federal Power Act (73 FR 31846). In the June 4 notice, DOE stated that it would be hosting six regional technical workshops to receive and discuss input concerning electric transmission-level congestion. The date for the workshop in Atlanta and the starting time of the workshop in Chicago have been changed. The locations of the workshops remain the same.

DATES: See SUPPLEMENTARY INFORMATION section for workshop date and time changes.

FOR FURTHER INFORMATION CONTACT: David Meyer, DOE Office of Electricity Delivery and Energy Reliability, (202) 586-1411, david.meyer@hq.doe.gov.

SUPPLEMENTARY INFORMATION:

I. Date and Time Changes for Technical Workshops

Workshops dates and times: The date for the Atlanta and the starting and ending time for the Chicago technical workshops are:

1. July 29, 2008, 9 a.m. to 12:30 p.m., Atlanta, GA.

2. September 17, 2008, 8:30 a.m. to 12 p.m., Chicago, IL.

Issued in Washington, DC on July 10, 2008.
Marshall E. Whitenton,
Deputy Assistant Secretary, Permitting, Siting and Analysis, Office of Electricity Delivery and Energy Reliability.

[FR Doc. E8-16222 Filed 7-15-08; 8:45 am]

BILLING CODE 6450-01-P